DEPARTMENT OF ENERGY

Federal Energy Regulatory Commission

[Project No. 2310-263]

Pacific Gas & Electric Company; Notice of Availability of Final Environmental Assessment

The final EA contains Commission staff's analysis of the potential environmental effects of the proposed temporary flow variance, alternatives to the proposed action, and concludes that the proposed variance, would not constitute a major federal action that would significantly affect the quality of the human environment.

The final EA may be viewed on the Commission's website at http://www.ferc.gov using the “elibrary” link. Enter the docket number (P-2310-263) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

For further information, contact Katie Schmidt at (415) 369-3348 or katherine.schmidt@ferc.gov.

Dated: March 27, 2025.
Debbie-Anne A. Reese,
Secretary.

[FR Doc. 2025-05702 Filed 4-2-25; 8:45 am]

BILLING CODE 6717-01-P